DEPARTMENT OF THE INTERIOR

National Park Service

[5284-TT02-371]

Record of Decision

AGENCY: National Park Service, Interior.

ACTION: Notice of Availability of the Record of Decision on the Final Environmental Impact Statement for the Tamiami Trail Modifications: Next Steps Project.

SUMMARY: Pursuant to 42 U.S.C. 4332(2)(C) of the National Environmental Policy Act of 1969 and National Park Service (NPS) policy in Director's Order Number 2 (Park Planning) and Director's Order Number 12 (Conservation Planning, Environmental Impact Analysis, and Decision-making), the NPS announces the availability of the Record of Decision (ROD) for the Final Environmental Impact Statement (FEIS) for the Tamiami Trail (U.S. Highway 41) Modifications: Next Steps Project for Everglades National Park (ENP), Florida.

DATES: The 2009 Omnibus Appropriations Act, Public Law 111-008, dated March 11, 2009, directed the U.S. Army Corps of Engineers (USACE) to construct modifications to U.S. Highway 41 (Tamiami Trail) that were approved in the 2008 Limited Reevaluation Report and Environmental Assessment. The 2009 Omnibus Appropriations Act also directed the NPS to “immediately evaluate the feasibility of additional bridge length, beyond that to be constructed pursuant to the Modified Water Deliveries to ENP Project (16 U.S.C. 410r-8), including a continuous bridge, or additional bridges or some combination thereof, for the Tamiami Trail to restore more natural water flow to ENP and Florida Bay and for the purpose of restoring habitat within the ENP and the ecological connectivity between the ENP and the Water Conservation Areas.” The FEIS for the Tamiami Trail Modifications: Next Steps Project provides historical information, existing conditions, alternatives for infrastructure modifications, including the preferred alternative, related impacts of the alternatives, and public involvement and consultation. The Tamiami Trail Modifications: Next Steps Project would be implemented in accordance with the preferred alternative should it be authorized and funded by the Congress.

ADDRESSES: The Record of Decision document will be available for public review online at http://parkplanning.nps.gov/ever. You may request a hard copy by contacting Everglades National Park, Attn: Bruce Boler, 950 N. Krome Avenue, Homestead, FL 33030-6733; telephone 305-224-4234.

SUPPLEMENTARY INFORMATION: Public scoping was initiated in the summer of 2009. A newsletter was distributed on May 31, 2009, and a public meeting was held on June 2, 2009, to keep the public informed and involved throughout the planning process. As the lead agency, the NPS conducted several inter-agency/Tribal meetings and one workshop to develop project objectives, identify alternatives, evaluate the benefits of alternatives, and identify a preferred alternative. The selected alternative maximizes bridging by creating conveyance openings through Tamiami Trail by removing 5.5 miles of the existing highway and embankment. Four bridges will be constructed in the opening to replace the removed section of road and maintain vehicle traffic. Bridge down-ramp (access ramps) options were also developed to maintain access to two commercial airboat facilities: Everglades Safari Park and Coopertown. A “Modified Parallel Down Ramp” was selected as the preferred option for Everglades Safari and a “Parallel Down Ramp with Existing Frontage Road” was selected as the preferred option for Coopertown. The selected alternative will increase ecological connectivity by 5.5 miles, reduce flow velocities below the 0.10 feet per second (fps) threshold that causes harm to marshes, and substantially restore the flow patterns associated with a healthy ridge and slough landscape in Northeast Shark River Slough. In addition, the remaining highway embankments along stretches of the road that are not bridged will be reconstructed to raise the crown elevation to 12.3 feet, the minimum required based on the design high water of 9.7 feet and the roadway cross section geometry.

FOR FURTHER INFORMATION CONTACT: Everglades National Park, Attn: Bruce Boler, 950 N. Krome Avenue, Homestead, FL 33030-6733; telephone 305-224-4234.

Authority: The authority for publishing this notice is contained in 40 CFR 1506.6.

The responsible official for this ROD is the Regional Director, Southeast Region, National Park Service, 100 Alabama Street, SW., 1924 Building, Atlanta, Georgia 30303.

Dated: April 18, 2011.
Gordon Wissinger,
Acting Regional Director, Southeast Region.

[FR Doc. 2011-10040 Filed 4-25-11; 8:45 am]

BILLING CODE 4310-XH-P